DEPARTMENT OF HEALTH AND HUMAN SERVICES

National Institutes of Health

Eunice Kennedy Shriver National Institute of Child Health and Human Development; Amended Notice of Meeting

Notice is hereby given of a change in the meeting of the National Institute of Child Health and Human Development Special Emphasis Panel, November 13, 2009, 10 a.m. to November 13, 2009, 4 p.m., National Institutes of Health, 6100 Executive Boulevard, Room 5B01, Rockville, MD, 20852 which was published in the Federal Register on October 16, 2009, 74 FR 53278.

The meeting date and time have been changed to November 16, 2009, 9 a.m. to November 16, 2009, 12 p.m.

The meeting is closed to the public.

Dated: October 20, 2009.
Jennifer Spaeth,
Director, Office of Federal Advisory Committee Policy.

[FR Doc. E9-25955 Filed 10-27-09; 8:45 am]

BILLING CODE 4140-01-P